DEPARTMENT OF COMMERCE

Foreign-Trade Zones Board

[Order No. 1531]

Expansion of Foreign-Trade Zone 214 Lenoir County, NC

Pursuant to its authority under the Foreign-Trade Zones Act of June 18, 1934, as amended (19 U.S.C. 81a-81u), the Foreign-Trade Zones Board (the Board) adopts the following Order.

Whereas, the North Carolina Global TransPark Authority, grantee of Foreign-Trade Zone 214, submitted an application to the Board for authority to expand the zone to include an additional site in Rocky Mount, North Carolina, adjacent to the Durham Customs and Border Protection port of entry (FTZ Docket 16-2007; filed 4/19/07);

Whereas, notice inviting public comment was given in the Federal Register (72 FR 21219, 4/30/07) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 214 is approved, subject to the FTZ Act and the Board's regulations, including Section 400.28.

Signed at Washington, DC, this 2nd day of November 2007.
David M. Spooner,
Assistant Secretary of Commerce for Import Administration, Alternate Chairman, Foreign-Trade Zones Board.
Andrew McGilvray,
Executive Secretary.

[FR Doc. 07-5775 Filed 11-21-07; 8:45 am]

BILLING CODE 3510-DS-M